RAILROAD RETIREMENT BOARD

Proposed Collection; Comment Request

SUMMARY: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of information collection:

Applicant Background Survey: New information collection.

This information collection is needed to comply with Federal laws and regulations. 5 U.S.C. Chapter 72 § 7201 establishes an anti-discrimination policy. Title VII of the Civil Rights Act of 1964, § 2000e-8 [§ 709], requires agencies to make and keep relevant records to identify unlawful employment practices. 29 CFR part 1602 allows agencies to collect data to determine if there is any adverse impact on employment practices such as recruitment or selection.

The RRB's Equal Employment Office needs to collect data to assess the impact of the agency's recruitment processes on the hiring of minorities, women and people with disabilities. To obtain the information necessary to conduct a proper assessment, the RRB proposes the use of Form EEO-44, Applicant Background Survey, which will collect information about the racial or ethnic identity, gender and disability of applicants for RRB jobs from outside of the Federal government. Form EEO-44 will only be viewed by RRB Human Resources personnel and Equal Employment Opportunity officials. Summarized data from all external applicants for a position will be used to identify hiring barriers which limit or tends to limit employment opportunities for members of a particular sex, race, or ethnic background, or based on an individual's disability status.

The EEO-44 will contain a “Plain English” assurance that the information will be kept highly confidential and only shared with authorized RRB officials. This assurance will specifically state that the information obtained will be kept as a running tally which cannot be disaggregated into individual names, that information from the form is not entered into the RRB's personnel database, that the information will not be provided to selecting officials or any others who can affect the selection, or to the public, and that the forms will be destroyed after the position is filled. The information maintained will not include the applicant's name or other identifier. Completion of one form will be requested of each respondent. Completion is voluntary.

Estimate of Annual Respondent Burden

The estimated annual respondent burden is as follows:

Form No. | Annual responses | Time (min) | Burden (hrs)
EEO-44 | 800 | 5 | 67

FOR FURTHER INFORMATION CONTACT: To request more information or to obtain a copy of the information collection justification, form, and/or supporting material, please call the RRB Clearance Officer at (312) 751-3363 or send an e-mail request to Charles.Mierzwa@RRB.GOV. Comments regarding the information collection should be addressed to Ronald J. Hodapp, Railroad Retirement Board, 844 N. Rush Street, Chicago, Illinois 60611-2092 or send an e-mail to Ronald.Hodapp@RRB.GOV. Comments should be received within 60 days of this notice.

Charles Mierzwa,
Clearance Officer.

[FR Doc. 05-17388 Filed 8-31-05; 8:45 am]

BILLING CODE 7905-01-P